DEPARTMENT OF TRANSPORTATION

Federal Railroad Administration

[Docket No. FRA-2015-0007-N-20]

Proposed Agency Information Collection Activities; Comment Request

AGENCY: Federal Railroad Administration (FRA), Department of Transportation (DOT).

ACTION: Notice and request for comments.

SUMMARY: In compliance with the Paperwork Reduction Act of 1995, this notice announces that FRA is forwarding the modified Information Collection Request (ICR) abstracted below to the Office of Management and Budget (OMB) for review and comment. The ICR describes the nature of the information collection and its expected burden. The Federal Register notice with a 60-day comment period soliciting comments on the collection of information was published on April 24, 2015 (80 FR 23069).

DATES: Comments must be submitted on or before September 11, 2015.

FOR FURTHER INFORMATION CONTACT: Mr. Robert Brogan, Safety Regulatory Analysis Division, RRS-21, U.S. Department of Transportation, Federal Railroad Administration, 1200 New Jersey Ave. SE., Mail Stop 25, Washington, DC 20590 (Telephone: (202) 493-6292), or Ms. Kebo Chen, Staff Director, Railroad Safety Information Management Division, RRS-22, U.S. Department of Transportation, Federal Railroad Administration, 1200 New Jersey Ave. SE., Mail Stop 25, Washington, DC 20590 (Telephone: (202) 493-6079). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), and 1320.12. On April 24, 2015, FRA published a 60-day notice in the Federal Register soliciting comment on an ICR that the agency is seeking OMB approval. See 80 FR 23069. In its ICR, FRA proposed to utilize Form FRA 6180.54's Special Study Block 49b (SSB) to collect specific information concerning rail cars carrying petroleum crude oil (crude oil) in trains involved in FRA reportable accidents.

FRA received two comments in response to the notice, from the U.S. Department of Commerce's Bureau of Economic Analysis (BEA) and an article titled “DOT Takes Additional Actions on Crude Oil Trains—Incident Report ICR,” originally posted on the blog Chemical Facility Security News by Peter Coyle on April 20, 2015. The substance of both comments, along with FRA's responses to those comments is discussed below. You may also review the full text of the comments online at www.regulations.gov in docket number FRA-2015-0007.

BEA's comment generally expresses support for the information collection activities associated with FRA's accident/incident reporting regulations, and references specific FRA forms that the BEA uses in its analysis that are different than the form this ICR covers. FRA appreciates BEA's comment, but notes that the comment relates to FRA forms that are outside the scope of this ICR. This ICR is limited to modifying the existing instructions on Form FRA F 6180.54 titled “Rail Equipment Accident/Incident Report” and does not impact FRA's information collection activities under other FRA accident/incident reporting forms.

In his comment, Mr. Coyle asserts that FRA's proposed collection of information related to crude oil train accidents is of limited usefulness and “will provide almost nothing in the way of information that can be used for analytical purposes.” Mr. Coyle suggests that FRA design a new report “specifically for rail accidents and incidents involving damaged and leaking rail cars containing crude oil.” Mr. Coyle also asserts that combining the number of cars loaded with crude oil and crude oil residue cars in the data collection will “about double the number of cars involved in accidents and damaged in accidents since most railcars in crude oil service are not cleaned before being returned for refilling.” Further, Mr. Coyle asserts that “since there is no effort being made to determine what types of tank cars are actually in use and the rate of failure (measured by leaks) for each type of tank car, the FRA will not be able to adequately describe how the continuing change of the makeup of the crude oil tank car fleet will affect the failure rate of the fleet.”

In response to Mr. Coyle's concern that the proposed information collection will not provide useful information for analytical purposes, FRA acknowledges that the proposed modifications will not capture all information about an accident that FRA needs to fully analyze an accident. FRA believes these simple modifications will, however, make this data more readily accessible to FRA and help to capture more specific information on the behavior of tank cars transporting crude oil in accident conditions. As Mr. Coyle suggests FRA should do, FRA intends to continue considering other options for gathering additional information concerning rail cars carrying crude oil (and other hazardous materials) involved in reportable accidents. However, implementation of any significant changes by FRA (such as the development of a new form) will necessitate a notice and comment rulemaking, a time consuming process. FRA does not want to wait for the completion of a rulemaking proceeding to begin making changes to improve the existing data collection. FRA believes that utilizing the existing SSB in the short term is the most efficient and expeditious method of improving FRA's information collection activity. FRA will, however, continue to evaluate additional, more comprehensive, methods of improving the agency's overall information collection activities related to the transportation of hazardous materials by railroad.

In response to Mr. Coyle's assertion that combining the number of cars loaded with crude oil and crude oil residue cars in the data collection will double the number of cars reported to be in accidents and damaged in accidents, FRA notes that residue cars, including cars carrying residue amounts of crude oil, are already included in the counts of all hazardous materials cars in blocks 8, 9, and 10 of FRA Form 6180.54. These current counts will not change as a result of the additional information collection in the SSB of Form FRA F 6180.54. Thus, FRA believes Mr. Coyle's assertion is incorrect.

Finally, Mr. Coyle asserts that “since there is no effort being made to determine what types of tank cars are actually in use and the rate of failure (measured by leaks) for each type of tank car, the FRA will not be able to adequately describe how the continuing change of the makeup of the crude oil tank car fleet will affect the failure rate of the fleet.” However, FRA again notes that the agency intends for the SSB as described in FRA's April 24, 2015 notice to be a short term method of obtaining some additional information on the number and behavior of tank cars transporting crude oil involved in FRA reportable accidents. FRA will continue to evaluate whether it needs more data as part of a comprehensive, long-term improvement in its information collection activities for the rail transportation of crude oil and the rail transportation of hazardous materials in general.

FRA received no other comments. After careful consideration of each of the comments discussed above, FRA reevaluated and certified this information collection activity under 5 CFR 1320.5(a), and is now forwarding this ICR to OMB for review and approval under 5 CFR 1320.12(c).

Before OMB decides whether to approve this proposed collection of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the ICR and the expected burden. FRA is submitting the proposed revisions to OMB for clearance as the PRA requires.

Title: Accident Incident Reporting and Recordkeeping.

OMB Control Number: 2130-0500.

Abstract: The collection of information arises from FRA's accident reporting regulations set forth in 49 CFR part 225. Part 225 requires railroads to submit monthly reports summarizing collisions, derailments, and certain other accidents/incidents involving damages above a certain dollar threshold, as well as certain injuries to passengers, employees, and other persons on railroad property (including those which are railroad work-related). Because the reporting requirements and information needed regarding each category are unique, a different form is used for each category. FRA is modifying the instructions for one of the three referenced agency forms to request that the SSB of Form FRA F 6180.54 be used to capture (with coded letters) information pertaining to accidents that involve rail cars transporting crude oil.

Type of Request: Revision of a Currently Approved Information Collection.

Affected Public: Businesses (Railroads).

Form(s): FRA F 6180.54.

Annual Estimated Burden: 39,058 hours.

Addressee: Send comments regarding these information collections to the Office of Information and Regulatory Affairs, Office of Management and Budget, 725 Seventeenth Street NW., Washington, DC, 20503, Attention: FRA Desk Officer. Comments may also be sent via email to OMB at the following address: oira_submissions@omb.eop.gov.

Comments are invited on the following: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC, on August 6, 2015.
Patrick Warren,
Deputy Associate Administrator for Safety Compliance and Program Implementation.

[FR Doc. 2015-19751 Filed 8-11-15; 8:45 am]

BILLING CODE 4910-06-P